SECURITIES AND EXCHANGE COMMISSION

Sunshine Act Meeting

Notice is hereby given, pursuant to the provisions of the Government in the Sunshine Act, Public Law 94-409, that the Securities and Exchange Commission will hold an Open Meeting on Wednesday, November 19, 2014 at 10:00 a.m., in the Auditorium, Room L-002.

The subject matter of the Open Meeting will be:

• The Commission will consider whether to adopt Regulation Systems Compliance and Integrity (Regulation SCI) under the Securities Exchange Act of 1934 (“Exchange Act”) and conforming amendments to Regulation ATS under the Exchange Act.

At times, changes in Commission priorities require alterations in the scheduling of meeting items.

For further information and to ascertain what, if any, matters have been added, deleted, or postponed, please contact:

The Office of the Secretary at (202) 551-5400.

Dated: November 12, 2014.
Brent J. Fields,
Secretary.

[FR Doc. 2014-27240 Filed 11-13-14; 11:15 am]

BILLING CODE 8011-01-P